DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 23, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on May 2, 2019.
Donald P. Burger,
Chief, General Approvals and Permits Branch.

Application No. | Applicant | Regulation(s) affected | Nature of the special permits thereof
Special Permits Data
12516-M | POLY-COAT SYSTEMS, INC | 107.503(b), 107.503(c), 173.241, 173.242 | To modify the special permit to remove the request to get authorization from the Approvals and Permits Division before modifying, stretching or re-barreling. (mode 1)
14576-M | STRUCTURAL COMPOSITES INDUSTRIES LLC | 172.101(j), 173.302a(a)(1), 173.304a(a)(1) | To modify the special permit to reduce the burst pressure from 3.4 times service pressure to 3.0 times the service pressure. (modes 1, 3, 4)
16140-M | ERA HELICOPTERS, LLC | 172.101(j) | To modify the special permit to add additional hazmat, to expand the transport zones and to add support for the space program. (mode 5)
16308-M | VERO BIOTECH LLC | 173.175 | To modify the special permit to clarify the packaging used description. (modes 1, 2, 3, 4, 5)
20323-M | GENERAL DYNAMICS MISSION SYSTEMS, INC | 173.185(a)(1)(i) | To modify the special permit to authorize transportation of prototype Lithium Ion Batteries and Lithium Metal Batteries contained in equipment. (mode 4)
20549-M | CELLBLOCK FCS, LLC | 172.400, 172.700(a), 172.102(c)(1), 172.200, 172.300 | To modify the special permit to authorize the transportation in commerce of larger batteries (Wh >300) without shipping papers, labeling, marking and training. (modes 1, 3)
20571-M | CATALINA CYLINDERS, INC | 173.302a, 178.71(l)(1)(i), 178.71(l)(1)(ii) | To modify the special permit to authorize a 15 year service life from the cylinder's date of manufacture. (modes 1, 2, 3, 4)
20709-M | DAIMLER AG | 172.101(j), 173.185(a) | To modify the special permit to authorize an increase in the battery and package weight. (mode 4)

[FR Doc. 2019-09383 Filed 5-7-19; 8:45 am]

BILLING CODE 4909-60-P